DEPARTMENT OF ENERGY

Federal Energy Regulatory Commission

Combined Notice of Filings #2

Take notice that the Commission received the following electric corporate filings:

Docket Numbers: EC12-10-000.

Applicants: Michigan Electric Transmission Company, LLC.

Description: Application for approval of acquisition of transmission assets pursuant to section 203 of Michigan Electric Transmission Company, LLC.

Filed Date: 10/20/2011.

Accession Number: 20111020-5061.

Comment Date: 5 p.m. Eastern Time on Thursday, November 10, 2011.

Docket Numbers: EC12-11-000.

Applicants: Michigan Electric Transmission Company, LLC.

Description: Application for approval of acquisition of transmission assets pursuant to Section 203 of Michigan Electric Transmission Company, LLC.

Filed Date: 10/20/2011.

Accession Number: 20111020-5062.

Comment Date: 5 p.m. Eastern Time on Thursday, November 10, 2011.

Docket Numbers: EC12-12-000.

Applicants: ITC Midwest LLC.

Description: Application of ITC Midwest LLC for approval of acquisition of transmission assets pursuant to Section 203.

Filed Date: 10/20/2011.

Accession Number: 20111020-5063.

Comment Date: 5 p.m. Eastern Time on Thursday, November 10, 2011.

Take notice that the Commission received the following electric rate filings:

Docket Numbers: ER07-771-005.

Applicants: Louisville Gas and Electric Company, Kentucky Utilities Company.

Description: Annual Schedule 2 True-Up Filing of Louisville Gas and Electric Co./Kentucky Utilities Co.

Filed Date: 10/20/2011.

Accession Number: 20111020-5108.

Comment Date: 5 p.m. Eastern Time on Thursday, November 10, 2011.

Docket Numbers: ER10-2124-001; ER10-2125-001; ER10-2127-001; ER10-2128-001; ER10-2129-001; ER10-2130-001; ER10-2131-002 ER10-2132-001; ER10-2133-002; ER10-2134-001; ER10-2135-001; ER10-2136-001; ER10-2137-002; ER10-2138-002; ER10-2139-002; ER10-2140-002; ER10-2141-002; ER10-2764-001.

Applicants: Forward Energy LLC, Sheldon Energy LLC, Invenergy Cannon Falls LLC, Spindle Hill Energy LLC, Spring Canyon Energy LLC, Grays Harbor Energy LLC, Grand Ridge Energy LLC, Willow Creek Energy LLC, Hardee Power Partners Limited, Judith Gap Energy LLC, Invenergy TN LLC, Wolverine Creek Energy LLC, Grand Ridge Energy II LLC, Grand Ridge Energy III LLC, Grand Ridge Energy IV LLC, Grand Ridge Energy V LLC, Vantage Wind Energy LLC, Beech Ridge Energy LLC.

Description: Notification of Change in Facts under Market-Based Rate Authority of Spring Canyon Energy LLC, et al.

Filed Date: 10/20/2011.

Accession Number: 20111020-5058.

Comment Date: 5 p.m. Eastern Time on Thursday, November 10, 2011.

Docket Numbers: ER11-3872-002.

Applicants: Stony Creek Energy LLC.

Description: Notification of Change in Facts under Market-Based Rate Authority of Stony Creek Energy LLC.

Filed Date: 10/20/2011.

Accession Number: 20111020-5053.

Comment Date: 5 p.m. Eastern Time on Thursday, November 10, 2011.

Docket Numbers: ER12-128-000.

Applicants: EGP Stillwater Solar, LLC.

Description: EGP Stillwater Solar, LLC submits tariff filing per 35.12: EGP Stillwater Solar, LLC MBR Tariff to be effective 11/15/2011.

Filed Date: 10/20/2011.

Accession Number: 20111020-5001.

Comment Date: 5 p.m. Eastern Time on Thursday, November 10, 2011.

Docket Numbers: ER12-129-000.

Applicants: Spindle Hill Energy LLC.

Description: Spindle Hill Energy LLC submits tariff filing per 35: Compliance Filing of a Revised Market-Based Rate Tariff to be effective 12/20/2011.

Filed Date: 10/20/2011.

Accession Number: 20111020-5044.

Comment Date: 5 p.m. Eastern Time on Thursday, November 10, 2011.

Docket Numbers: ER12-130-000.

Applicants: Spring Canyon Energy LLC.

Description: Spring Canyon Energy LLC submits tariff filing per 35: Compliance Filing of a Revised Market-Based Rate Tariff to be effective 12/20/2011.

Filed Date: 10/20/2011.

Accession Number: 20111020-5045.

Comment Date: 5 p.m. Eastern Time on Thursday, November 10, 2011.

Docket Numbers: ER12-131-000.

Applicants: Grays Harbor Energy LLC.

Description: Grays Harbor Energy LLC submits tariff filing per 35: Compliance Filing of a Revised Market-Based Rate Tariff to be effective 12/20/2011.

Filed Date: 10/20/2011.

Accession Number: 20111020-5049.

Comment Date: 5 p.m. Eastern Time on Thursday, November 10, 2011.

Docket Numbers: ER12-132-000.

Applicants: Wolverine Creek Energy LLC.

Description: Wolverine Creek Energy LLC submits tariff filing per 35: Compliance Filing of a Revised Market-Based Rate Tariff to be effective 12/20/2011.

Filed Date: 10/20/2011.

Accession Number: 20111020-5054.

Comment Date: 5 p.m. Eastern Time on Thursday, November 10, 2011.

Docket Numbers: ER12-133-000.

Applicants: Invenergy TN LLC.

Description: Invenergy TN LLC submits tariff filing per 35: Compliance Filing of a Revised Market-Based Rate Tariff to be effective 12/20/2011.

Filed Date: 10/20/2011.

Accession Number: 20111020-5055.

Comment Date: 5 p.m. Eastern Time on Thursday, November 10, 2011.

Docket Numbers: ER12-134-000.

Applicants: Invenergy Cannon Falls LLC.

Description: Invenergy Cannon Falls LLC submits tariff filing per 35: Compliance Filing of a Revised Market-Based Rate Tariff to be effective 12/20/2011.

Filed Date: 10/20/2011.

Accession Number: 20111020-5056.

Comment Date: 5 p.m. Eastern Time on Thursday, November 10, 2011.

Docket Numbers: ER12-135-000.

Applicants: Judith Gap Energy LLC.

Description: Judith Gap Energy LLC submits tariff filing per 35: Compliance Filing of a Revised Market-Based Rate Tariff to be effective 12/20/2011.

Filed Date: 10/20/2011.

Accession Number: 20111020-5057.

Comment Date: 5 p.m. Eastern Time on Thursday, November 10, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 20, 2011.
Nathaniel J. Davis, Sr.,
Deputy Secretary.

[FR Doc. 2011-27997 Filed 10-28-11; 8:45 am]

BILLING CODE 6717-01-P